DEPARTMENT OF TRANSPORTATION

Office of the Secretary

Privacy Act of 1974: System of Records

AGENCY: Department of Transportation (DOT), Office of the Secretary.

ACTION: Notice to modify a system of records.

SUMMARY: DOT proposes to modify a system of records under the Privacy Act of 1974. The system is DOT's Docket Management System (DMS), which is being modified to reflect: (1) Incorporation in the new Government-wide Federal DMS; (2) relocation of DOT's Headquarters Building (HQ), in which DMS is located; and (3) new name of the organizational entity of which DMS is a part, and its location in the new DOT HQ. This system would not duplicate any other DOT system of records.

EFFECTIVE DATE: This notice will be effective, without further notice, on February 26, 2008, unless modified by a subsequent notice to incorporate comments received by the public. Comments must be received by February 19, 2008 to be assured consideration.

ADDRESSES: Send comments to Habib Azarsina, Acting Departmental Privacy Officer, S-80, United States Department of Transportation, Office of the Secretary of Transportation, 1200 New Jersey Avenue, SE., Washington DC 20590 or habib.azarsina@dot.gov.

FOR FURTHER INFORMATION CONTACT: Habib Azarsina, Acting Departmental Privacy Officer, S-80, United States Department of Transportation, Office of the Secretary of Transportation, 1200 New Jersey Avenue, SE., Washington DC 20590; telephone 202.366.1965, or habib.azarsina@dot.gov.

SUPPLEMENTARY INFORMATION: The DOT system of records notice subject to the Privacy Act of 1974 (5 U.S.C. 552a), as amended, as proposed to be modified, is available from the above mentioned address and appears below:

DOT/ALL 14

System name:

Federal Docket Management System (FDMS).

Security classification:

Unclassified, non-sensitive.

System location:

The system is located in U.S. Department of Transportation, Office of Information Services, Docket Operations, M-30, New Jersey Ave., SE., Room W12-140, Washington, DC 20590.

Categories of individuals covered by the system:

Individuals who participate in proceedings at DOT that are covered by the Administrative Procedure Act (APA), and who provide information about their identities. These include proceedings conducted by DOT and by the Department of Homeland Security's U.S. Coast Guard (USCG) and Transportation Security Administration (TSA).

Categories of records in the system:

DOT, USCG, and TSA rulemaking and related documents issued in informal rulemakings, and public comments thereon; non-rulemaking and related documents, and public comments thereon; in formal rulemakings, motions, petitions, complaints, and related documents and formal responses thereto.

Authority for maintenance of the system:

5 U.S.C. 551 et seq.

Purpose(s):

To facilitate involvement of the public in APA and related proceedings. Routine uses of records maintained in the system, including categories of users and the purposes of such uses: See Prefatory Statement of General Routine Uses.

Disclosure to consumer reporting agencies:

None

Policies and practices for storing, retrieving, accessing, retaining, and disposing of records in the system:

Storage:

Electronically on a publicly-accessible website.

Retrievability:

Documents are retrievable through FDMS by name of individual submitting comment, and by docket number.

Safeguards:

Records are freely available to anyone.

Retention and disposal:

Paper copies are returned to the originating office upon transfer to electronic medium. Electronic version is retained indefinitely at the discretion of DOT, USCG, or TSA, as appropriate.

System manager(s) and address:

U.S. Department of Transportation, Dockets Program Manager, Office of Information Services, Docket Operations, M-30, 1200 New Jersey Ave., SE., Room W12-140, Washington, DC 20590.

Notification procedure:

Same as “System Manager.”

Record access procedures:

Same as “System Manager.”

Contesting record procedures:

Same as “System Manager.”

Record source categories:

Individuals participating in DOT, USCG, or TSA APA proceedings who provide information about their identities.

Exemptions claimed for the system:

None.

Habib Azarsina,
Acting Departmental Privacy Officer.

[FR Doc. E8-785 Filed 1-16-08; 8:45 am]

BILLING CODE 4910-9X-P